DEPARTMENT OF COMMERCE

National Oceanic and Atmospheric Administration

[I.D. 030106C]

Advisory Committee to the U.S. Section to the International Commission for the Conservation of Atlantic Tunas (ICCAT); Spring Species Working Group Meeting

AGENCY: National Marine Fisheries Service (NMFS), National Oceanic and Atmospheric Administration (NOAA), Commerce.

ACTION: Notice of public meeting.

SUMMARY: The Advisory Committee (Committee) to the U.S. Section to the International Commission for the Conservation of Atlantic Tunas (ICCAT) announces its spring meeting with its Species Working Group Technical Advisors on March 27-28, 2006. The Committee will meet to discuss matters relating to ICCAT, including the results from the 2005 ICCAT meeting; the U.S. implementation of ICCAT decisions; the 2006 ICCAT and NMFS research and monitoring activities; the 2006 ICCAT activities; the Atlantic Tunas Convention Act-required consultation on the identification of countries that are diminishing the effectiveness of ICCAT; the results of the meetings of the Committee's Species Working Groups; and other matters relating to the international management of ICCAT species.

DATES: The open sessions of the Committee meeting will be held on March 27, 2006, from 8:45 a.m. to 3 p.m. and on March 28, 2006, from 8:30 a.m. to 9:15 a.m. and from 11 a.m. to 3:30 p.m. Closed sessions will be held on March 27, 2006, from 3 p.m. to approximately 6 p.m. and on March 28, 2006, from 9:15 a.m. to 11 a.m. and from 3:30 p.m. to 5 p.m.

ADDRESSES: The meeting will be held at the Hilton Hotel Washington-Silver Spring, 8727 Colesville Road, Silver Spring, MD 20910, 301-589-5200.

FOR FURTHER INFORMATION CONTACT: Erika Carlsen at (301) 713-2276.

SUPPLEMENTARY INFORMATION: The Advisory Committee to the U.S. Section to ICCAT will meet in open session to receive and discuss information on (1) the 2005 ICCAT meeting results and U.S. implementation of ICCAT decisions; (2) 2006 ICCAT and NMFS research and monitoring activities; (3) 2006 ICCAT activities; (4) the Atlantic Tunas Convention Act-required consultation on the identification of countries that are diminishing the effectiveness of ICCAT; (5) the results of the meetings of the Committee's Species Working Groups; and (6) other matters relating to the international management of ICCAT species. The public will have access to the open sessions of the meeting, but there will be no opportunity for public comment.

The Committee will meet in its Species Working Groups for a portion of the afternoon of March 27, 2006, and of the morning of March 28, 2006. These sessions are not open to the public, but the results of the species working group discussions will be reported to the full Advisory Committee during the Committee's morning and afternoon open session on March 28, 2006. The Committee may also go into executive session on the afternoon of March 28, 2006, to discuss sensitive information relating to upcoming intersessional meetings of ICCAT. This session would also be closed to the public.

Special Accommodations

The meeting location is physically accessible to people with disabilities. Requests for sign language interpretation or other auxiliary aids should be directed to Erika Carlsen at (301) 713-2276 at least 5 days prior to the meeting date.

Dated: March 3, 2006.
Alan D. Risenhoover,
Acting Director, Office of Sustainable Fisheries, National Marine Fisheries Service.

[FR Doc. E6-3301 Filed 3-7-06; 8:45 am]

BILLING CODE 3510-22-S